DEPARTMENT OF HEALTH AND HUMAN SERVICES

Substance Abuse and Mental Health Services Administration

[Document Identifier: 0930-0092]

Agency Information Collection Request; 30-Day Public Comment Request

AGENCY: Substance Abuse and Mental Health Services Administration, Department of Health and Human Services.

ACTION: Notice.

SUMMARY: In compliance with the requirement of the Paperwork Reduction Act of 1995, the Department of Health and Human Services, Substance Abuse and Mental Health Services Administration is publishing the following summary of a proposed collection for public comment.

DATES: Comments on the ICR must be received on or before February 27, 2023.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Carlos.Graham@samhsa.hhs.gov or call (240) 276-0361. When submitting comments or requesting information, please include the document identifier 0930-0092 and project title for reference.

SUPPLEMENTARY INFORMATION: Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

Title of the Collection: Confidentiality of Substance Use Disorder Patient Records, 42 CFR part 2.

Type of Collection: Extension.

OMB No. 0930-0092.

Abstract: The Substance Abuse and Mental Health Services Administration (SAMHSA) requests approval to extend this existing, approved collection without changing any collecting requirements. HHS also expects to obtain public comment through a Notice of Proposed Rulemaking (NPRM), which proposes modifications to 42 CFR part 2 that would affect the hourly burdens associated with the regulations. 87 FR 74216 (December 2, 2022). At the final rule stage, the Department intends to replace this existing, approved collection with an updated information collection reflecting changes in the rule and updated wage rates and regulated entity statistics.

Likely Respondents: Part 2 programs, qualified service organizations, patients with substance use disorders, and professional and trade associations of SUD treatment providers.

Estimated Annualized Burden Table ¹
Part 2 provision | Annual number respondents (SUD programs) | Responses per respondent | Total responses (treatment admissions) | Average burden per response | Total burden hours | Average cost per response | Total hourly cost
DISCLOSURES
2.22 | 13,585 | 122.10 | 1,658,729 | 0.20 | 331,746 | $9.60 | $15,923,798
2.31, 2.52, 2.53 elec. & paper disclosures | 13,585 | 18.31 | 248,741 | 0.62 | 155,463 | 28.00 | 6,964,748
RECORDKEEPING
2.36 | 13,585 | 195.80 | 2,659,943 | 0.033 | 87,778 | 1.60 | 4,255,909
2.51 | 13,585 | 2.00 | 27,170 | 0.167 | 4,537 | 7.47 | 202,960
Total |  |  | 4,594,583 |  | 579,524 |  | 27,347,415
¹ The burden table reflects entries approved for the current ICR based on calculating the average cost per response and contains changes to the table published in the 60-day Federal Register Notice. See 87 FR 71341 (November 22, 2022), 87 FR 75058 (December 7, 2022) (correction issued), and 87 FR 76634 (December 15, 2022) (correction issued).

Carlos Graham,
PRA Reports Clearance Officer.

[FR Doc. 2023-01657 Filed 1-26-23; 8:45 am]

BILLING CODE 4162-20-P